ENVIRONMENTAL PROTECTION AGENCY

[FRL-6884-5]

Announcement of an Analysis of Oversight and Review of EPA Information Products

AGENCY: Environmental Protection Agency (EPA).

ACTION: Notice.

SUMMARY: This notice is to announce EPA's intent to perform an analysis of oversight and review mechanisms for EPA information products. Oversight and review of EPA information products is an aspect of accountability, which EPA is considering as the Agency develops its public access strategy. The analysis will provide useful background for EPA's strategy. Specifically, the analysis will focus on mechanisms to address concerns if inaccurate or misleading information products are published by EPA. The analysis will look at the scope and adequacy of various oversight mechanisms.

EPA will provide detailed issue papers prepared by independent experts from the fields of law, economics and public administration for each of the following issues:

1. What current mechanisms exist to address concerns about inaccurate or misleading information products published by the government? The analysis will address judicial and non-judicial mechanisms for review in both pre-publication and post-publication stages.

2. Generally, what types of additional pre-publication or post-publication mechanisms could be developed under existing law to ensure there is accountability for correcting errors?

3. Assuming the availability of judicial review, what are the costs and benefits (e.g., to the government, to private parties, and to society in general)?

4. When considering the feasibility of new mechanisms to ensure accountability for accurate and clear information or data, what economic and social costs and benefits should be considered (e.g., likelihood for abuse, timeliness of resolution, completeness of information disclosure, effectiveness for resolving issues)?

5. What are some pertinent case histories that show the costs and benefits for judicial and non-judicial review options?

These issue papers are intended to be neutral in tone; they will explain the range of opinions on each issue without advocating any specific position. EPA anticipates that the issue papers will be ready in January 2001. When they are complete, EPA will announce their availability in the Federal Register and on the EPA Website, and will post the full texts on the EPA Website. The Agency will open a 30-day public comment period on-line to solicit public input. EPA is interested in obtaining comments from a broad spectrum of its stakeholders, but is particularly interested in hearing from experts in the legal and administrative aspects of judicial and non-judicial review. The Agency would prefer that commenters use the EPA Website to send comments, but will also accept written comments by mail.

ADDRESSES: There will be a 30-day public comment period, announced on the EPA Website (www.epa.gov) and in the Federal Register when the issue papers are available. Written comments can be sent by mail to Kevin Donovan, Office of Environmental Information, U.S. Environmental Protection Agency, 1200 Pennsylvania Avenue, NW., Mail Code 2843, Washington, DC 20460.

FOR FURTHER INFORMATION CONTACT: For more detailed information on specific aspects of the issue papers, contact Kevin Donovan (donovan.kevin-e@epa.gov) or Vipul Bhatt (bhatt.vipul@epa.gov), Office of Environmental Information, U.S. Environmental Protection Agency, 1200 Pennsylvania Avenue, NW., Mail Code 2843, Washington, DC 20460.

Dated: October 6, 2000.
Elaine Stanley,
Director, Office of Information and Analysis and Access, Office of Environmental Information.

[FR Doc. 00-26188 Filed 10-11-00; 8:45 am]

BILLING CODE 6560-50-U